DEPARTMENT OF ENERGY

Bonneville Power Administration

Mint Farm Generation Project

AGENCY: Bonneville Power Administration (BPA), Department of Energy (DOE).

ACTION: Notice of availability of Record of Decision (ROD).

SUMMARY: This notice announces the availability of the ROD to offer contract terms for integrating power from the Mint Farm Generation Project, proposed by Mint Farm Generation LLC (MFG), a wholly owned subsidiary of Mirant Corporation, into the Federal Columbia River Transmission System.

ADDRESSES: Copies of the MFG ROD, Business Plan, and Business Plan EIS and ROD may be obtained by calling BPA's toll-free document request line: 1-800-622-4520.

FOR FURTHER INFORMATION CONTACT: Phil Smith, Bonneville Power Administration—KEC-4, P.O. Box 3621, Portland, Oregon, 97208-3621; telephone number 503-230-3294; fax number 503-230-5699; e-mail pwsmith@bpa.gov.

SUPPLEMENTARY INFORMATION: This decision is based on input from public processes and information in the BPA Business Plan Environmental Impact Statement (DOE/EIS-0183, June 1995) and the Business Plan ROD (August 15, 1995). The MFG project is a 319-megawatt gas-fired, combined-cycle, combustion-turbine power generation project, which is located within an industrial park south of the City of Longview, in Cowlitz County, Washington.

Issued in Portland, Oregon, on February 15, 2002.
Stephen J. Wright,
Administrator and Chief Executive Officer.

[FR Doc. 02-4616 Filed 2-26-02; 8:45 am]

BILLING CODE 6450-01-P